DEPARTMENT OF LABOR

Employment and Training Administration

[A-W-55,082]

Chieftain Products, Inc. Access Employment Solutions, Accesspoint LLC, Access Human Resources, Accesspoint Business Solutions Owosso, MI; Amended Certification Regarding Eligibility To Apply for Worker Adjustment Assistance and Alternative Trade Adjustment Assistance

In accordance with Section 223 of the Trade Act of 1974 (19 U.S.C. 2273) the Department of Labor issued a Certification of Eligibility to Apply for Worker Adjustment Assistance on July 22, 2004, applicable to workers of Chieftain Products, Inc., Owosso, Michigan. The notice was published in the Federal Register on August 10, 2004 (69 FR 48530). The certification was amended on September 21, 2004 to extend Alternative Trade Adjustment Assistance coverage to workers of the subject firm. The notice was published in the Federal Register on October 8, 2004 (69 FR 60425).

At the request of the State agency, the Department reviewed the certification for workers of the subject firm. The workers were engaged in the production (cutting and sewing) of automotive interior trim.

Information from the State shows that workers separated from employment at the subject firm had their wages reported under four separate unemployment insurance (UI) tax accounts for Access Employment Solutions, AccessPoint LLC, Access Human Resources and AccessPoint Business Solutions.

Accordingly, the Department is amending the certification to properly reflect this matter.

The amended notice applicable to TA-W-55,082 is hereby issued as follows:

All workers of Chieftain Products, Inc., Access Employment Solutions, AccessPoint LLC, Access Human Resources and AccessPoint Business Solutions, Owosso, Michigan (TA-W-55,082), who became totally or partially separated from employment on or after June 14, 2003, through July 22, 2006, are eligible to apply for adjustment assistance under Section 223 of the Trade Act of 1974 and are also eligible to apply for Alternative Trade Adjustment Assistance under Section 246 of the Trade Act of 1974.

Signed at Washington, DC this 13th day of October 2004.
Richard Church,
Certifying Officer, Division of Trade Adjustment Assistance.

[FR Doc. E4-2809 Filed 10-22-04; 8:45 am]

BILLING CODE 4310-30-P